DEPARTMENT OF TRANSPORTATION

Federal Aviation Administration

14 CFR Part 39

[Docket No. FAA-2010-1162; Directorate Identifier 2010-NM-099-AD; Amendment 39-16634; AD 2011-06-09]

RIN 2120-AA64

Airworthiness Directives; Airbus Model A310 Series Airplanes, and Airbus Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

Prompted by a reported in-service event, EASA issued AD 2009-0084 to prevent unwanted movement of pilot- or co-pilot seat in the horizontal direction which is considered as potentially unsafe, especially during the takeoff phase when the speed of the aeroplane is greater than 100 knots and until landing gear retraction.

* * * * *

Uncommanded movement of the pilot and co-pilot seats during takeoff or landing could interfere with the operation of the airplane and, as a result, could cause loss of control of the airplane. We are issuing this AD to require actions to correct the unsafe condition on these products.

DATES: This AD becomes effective April 26, 2011.

The Director of the Federal Register approved the incorporation by reference of certain other publications listed in this AD as of April 26, 2011.

The Director of the Federal Register approved the incorporation by reference of certain other publications listed in this AD as of June 12, 2009 (74 FR 25399, May 28, 2009).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; phone: 425-227-2125; fax: 425-227-1149.

SUPPLEMENTARY INFORMATION:

Discussion

We issued a notice of proposed rulemaking (NPRM) to amend 14 CFR part 39 to include an AD that would apply to the specified products. That NPRM was published in the Federal Register on December 1, 2010 (75 FR 74665), and proposed to supersede AD 2009-11-09, Amendment 39-15919 (74 FR 25399, May 28, 2009). That NPRM proposed to correct an unsafe condition for the specified products. The MCAI states:

Prompted by a reported in-service event, EASA issued AD 2009-0084 [which corresponds to FAA AD 2009-11-09] to prevent unwanted movement of pilot- or co-pilot seat in the horizontal direction which is considered as potentially unsafe, especially during the takeoff phase when the speed of the aeroplane is greater than 100 knots and until landing gear retraction.

AD 2009-0084 required the deactivation of the electrical power of SOGERMA pilot seats P/N 2510112 series and co-pilot seats P/N 2510113 series. Optional intermediate actions were also provided by AD 2009-0084 to allow partial or full restoration of seat adjustment functionality.

Since AD 2009-0084 was issued, a permanent solution has been developed that terminates the de-activation requirement and invalidates the intermediate actions.

Consequently, this AD retains requirements of EASA AD 2009-0084, which is superseded, and requires implementing the terminating action. In addition, this AD prohibits the (re)installation of unmodified pilot- and co-pilot seats on any aeroplane that has been modified in accordance with the requirements of this AD.

Uncommanded movement of the pilot and co-pilot seats during takeoff or landing could interfere with the operation of the airplane and, as a result, could cause loss of control of the airplane. You may obtain further information by examining the MCAI in the AD docket.

Relevant Service Information

Since issuance of the NPRM, Airbus has issued Mandatory Service Bulletin A310-25-2205, Revision 01, dated November 19, 2010. This revision does not require any additional work. The actions described in this service information are intended to correct the unsafe condition identified in the MCAI. We have updated this final rule to refer to Airbus Mandatory Service Bulletin A310-25-2205, Revision 01, dated November 19, 2010. We added a new paragraph (n) of this AD to provide credit for doing actions before the effective date of this AD in accordance with Airbus Mandatory Service Bulletin A310-25-2205, dated August 31, 2009, for Airbus Model A310 series airplanes.

Comments

We gave the public the opportunity to participate in developing this AD. We received no comments on the NPRM or on the determination of the cost to the public.

Conclusion

We reviewed the available data, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

Based on the service information, we estimate that this AD affects about 132 products of U.S. registry.

The actions that are required by AD 2009-11-09 and retained in this AD take about 2 work-hours per product, at an average labor rate of $85 per work hour. Based on these figures, the estimated cost of the currently required actions is $170 per product.

We estimate that it would take about 2 work-hours per product to comply with the new basic requirements of this AD. The average labor rate is $85 per work-hour. Required parts would cost about $5,000 per product. Where the service information lists required parts costs that are covered under warranty, we have assumed that there will be no charge for these costs. As we do not control warranty coverage for affected parties, some parties may incur costs higher than estimated here. Based on these figures, we estimate the cost of the AD on U.S. operators to be $704,880, or $5,340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15919 (74 FR 25399, May 28, 2009) and adding the following new AD:

2011-06-09 Airbus: Amendment 39-16634. Docket No. FAA-2010-1162; Directorate Identifier 2010-NM-099-AD.

Effective Date

(a) This airworthiness directive (AD) becomes effective April 26, 2011.

Affected ADs

(b) This AD supersedes AD 2009-11-09, Amendment 39-15919.

Applicability

(c) This AD applies to the airplanes identified in paragraphs (c)(1) and (c)(2) of this AD, certificated in any category; all serial numbers having SOGERMA 2510112 series pilot electrical seats or SOGERMA 2510113 series co-pilot electrical seats installed.

(1) Airbus Model A300 B4-601, A300 B4-603, A300 B4-620, and A300 B4-622, A300 B4-605R and A300 B4-622R; A300 F4-605R and A300 F4-622R; and A300 C4-605R Variant F airplanes.

(2) Airbus Model A310-203, -204, -221, -222, -304, -322, -324, and -325 airplanes.

Subject

(d) Air Transport Association (ATA) of America Code 25: Equipment/Furnishings.

Reason

(e) The mandatory continuing airworthiness information (MCAI) states:

Prompted by a reported in-service event, EASA issued AD 2009-0084 to prevent unwanted movement of pilot or co-pilot seat in the horizontal direction which is considered as potentially unsafe, especially during the takeoff phase when the speed of the aeroplane is greater than 100 knots and until landing gear retraction.

* * * * *

Uncommanded movement of the pilot and co-pilot seats during takeoff or landing could interfere with the operation of the airplane and, as a result, could cause loss of control of the airplane.

Compliance

(f) You are responsible for having the actions required by this AD performed within the compliance times specified, unless the actions have already been done.

Restatement of Requirements of AD 2009-11-09, With No Changes

(g) Within 15 days after June 12, 2009 (the effective date of AD 2009-11-09): Deactivate the electrical supply of SOGERMA 2510112 series pilot seats and SOGERMA 2510113 series co-pilot seats, in accordance with the instructions of Airbus All Operators Telex (AOT) A310-25A2203, Revision 02, dated March 2, 2009; or Airbus AOT A300-25A6215, Revision 02, dated March 2, 2009; as applicable.

(h) For optional intermediate action for restoration of the electrical adjustment of the vertical seat movement only: Deactivating the electrical powered horizontal movement of SOGERMA 2510112 series pilot seats or SOGERMA 2510113 series co-pilot seats, in accordance with the instructions of EADS SOGERMA Alert Service Bulletin A2510112-25-764, Revision 1, dated February 17, 2009, allows restoration of the vertical adjustment only.

(i) For optional intermediate action for restoration of the electrical adjustment of the vertical seat and horizontal seat movement: Inspecting the position of switch `S4' and the related shim of SOGERMA 2510112 series pilot seats or SOGERMA 2510113 series co-pilot seats, in accordance with EADS SOGERMA Inspection Service Bulletin 2510112-25-807, dated February 20, 2009, allows reactivation of both horizontal and vertical electrical movements, provided the measurement results of the inspection are within the acceptable value indicated in that service bulletin, and provided that the inspection is repeated thereafter at intervals not to exceed 2 months. If the measurement result of any inspection is not within the acceptable value indicated in EADS SOGERMA Inspection Service Bulletin 2510112-25-807, dated February 20, 2009, the horizontal movement must be deactivated before further flight.

(j) At the applicable time specified in paragraph (j)(1) or (j)(2) of this AD: Submit a report of the findings for the first inspection done in accordance with paragraph (i) of this AD to Airbus SAS-EAW (Airworthiness Office), 1 Rond Point Maurice Bellonte, 31707 Blagnac Cedex, France. The report must include a detailed fleet inspection report, including measurement values, and pin and serial numbers for each seat.

(1) If the inspection was done on or after June 12, 2009: Submit the report within 30 days after the inspection.

(2) If the inspection was accomplished prior to June 12, 2009: Submit the report within 30 days after June 12, 2009.

(k) Modifications made prior to June 12, 2009, in accordance with EADS SOGERMA Alert Service Bulletin A2510112-25-764, dated December 19, 2008, are considered acceptable for compliance with the applicable action specified in this AD.

New Requirements of This AD

(l) Within 12 months after the effective date of this AD: Install an enlarged shim for the horizontal switch actuation on each affected seat, in accordance with the Accomplishment Instructions of Airbus Mandatory Service Bulletin A300-25-6217, dated August 31, 2009 (for Model A300-600 series airplanes) or A310-25-2205, Revision 01, dated November 19, 2010 (for Model A310 series airplanes). Doing the installation required by paragraph (l) of this AD terminates the requirements of paragraphs (g), (h), and (i) of this AD.

(m) As of the effective date of this AD, no person may install any SOGERMA 2510112 series pilot seat or SOGERMA 2510113 series co-pilot seat, on any airplane, unless that seat has been modified in accordance with the Accomplishment Instructions of Airbus Mandatory Service Bulletin A300-25-6217, dated August 31, 2009 (for Model A300-600 series airplanes) or A310-25-2205, Revision 01, dated November 19, 2010 (for Model A310 series airplanes).

(n) Actions accomplished before the effective date of this AD according to Airbus Mandatory Service Bulletin A310-25-2205, dated August 31, 2009 (for Model A310 airplanes), are considered acceptable for compliance with the corresponding actions required by paragraphs (l) and (m) of this AD.

FAA AD Differences

Note 1: This AD differs from the MCAI and/or service information as follows: No differences.

Other FAA AD Provisions

(o) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to ATTN: Dan Rodina, Aerospace Engineer, International Branch, ANM-116, Transport Airplane Directorate, FAA, 1601 Lind Avenue, SW., Renton, Washington 98057-3356; phone: 425-227-2125; fax: 425-227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(p) Refer to MCAI European Aviation Safety Agency (EASA) Airworthiness Directive 2010-0070, dated April 14, 2010, and the service information specified in table 1 of this AD, for related information.

Table 1—Related Service Information
Document | Revision | Date
Airbus All Operators Telex A300-25A6215 | 02 | March 2, 2009.
Airbus All Operators Telex A310-25A2203 | 02 | March 2, 2009.
Airbus Mandatory Service Bulletin A300-25-6217 | Original | August 31, 2009.
Airbus Mandatory Service Bulletin A310-25-2205 | 01 | November 19, 2010.
EADS SOGERMA Alert Service Bulletin A2510112-25-764 | 1 | February 17, 2009.
EADS SOGERMA Inspection Service Bulletin 2510112-25-807 | Original | February 20, 2009.

Material Incorporated by Reference

(q) You must use the service information contained in table 2 of this AD to do the actions required by this AD, unless the AD specifies otherwise. If you do the optional actions specified in this AD, you must use EADS SOGERMA Alert Service Bulletin A2510112-25-764, Revision 1, dated February 17, 2009; or EADS SOGERMA Inspection Service Bulletin 2510112-25-807, dated February 20, 2009; as applicable; to perform those actions, unless the AD specifies otherwise.

Table 2—All Material Incorporated by Reference for Required Actions
Document | Revision | Date
Airbus All Operators Telex A300-25A6215 | 02 | March 2, 2009.
Airbus All Operators Telex A310-25A2203 | 02 | March 2, 2009.
Airbus Mandatory Service Bulletin A300-25-6217 | Original | August 31, 2009.
Airbus Mandatory Service Bulletin A310-25-2205 | 01 | November 19, 2010.

(1) The Director of the Federal Register approved the incorporation by reference of Airbus Mandatory Service Bulletin A300-25-6217, dated August 31, 2009; and Airbus Mandatory Service Bulletin A310-25-2205, Revision 01, dated November 19, 2010; under 5 U.S.C. 552(a) and 1 CFR part 51.

(2) The Director of the Federal Register previously approved the incorporation by reference of the service information contained in table 3 of this AD on June 12, 2009 (74 FR 25399, May 28, 2009).

Table 3—Material Previously Incorporated by Reference
Document | Revision | Date
Airbus All Operators Telex A300-25A6215 | 02 | March 2, 2009.
Airbus All Operators Telex A310-25A2203 | 02 | March 2, 2009.
EADS SOGERMA Alert Service Bulletin A2510112-25-764 | 1 | February 17, 2009.
EADS SOGERMA Inspection Service Bulletin 2510112-25-807 | Original | February 20, 2009.

(3) For Airbus service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(4) For EADS SOGERMA service information identified in this AD, contact EADS SOGERMA, Zone Industrielle de l'Arsenal, BP 60109, 17303 Rochefort, Cedex France; phone: 33 5 49 82 84 84; fax: 33 5 46 82 88 13; e-mail: SCOD1@sogerma.eads.net; Internet: http://www.sogerma.eads.net.

(5) You may review copies of the service information at the FAA, Transport Airplane Directorate, 1601 Lind Avenue, SW., Renton, Washington. For information on the availability of this material at the FAA, call 425-227-1221.

(6) You may also review copies of the service information that is incorporated by reference at the National Archives and Records Administration (NARA). For information on the availability of this material at NARA, call 202-741-6030, or go to: http://www.archives.gov/federal_register/code_of_federal_regulations/ibr_locations.html.

Issued in Renton, Washington, on March 7, 2011.
Kalene C. Yanamura,
Acting Manager, Transport Airplane Directorate, Aircraft Certification Service.

[FR Doc. 2011-5938 Filed 3-21-11; 8:45 am]

BILLING CODE 4910-13-P